DEPARTMENT OF TRANSPORTATION

Coast Guard

46 CFR Part 15

[USCG 1999-6097]

Federal Pilotage for Foreign-Trade Vessels in Maryland

AGENCY: Coast Guard, DOT.

ACTION: Notice of termination.

SUMMARY: The Coast Guard undertook this rulemaking to ensure that vessels under way on the navigable waterways within the State of Maryland are navigated by competent, qualified persons, knowledgeable in the local area and accountable to either the State or the Coast Guard. The rulemaking might have required that vessels engaged in foreign trade be under the direction and control of federally-licensed pilots when not under the direction and control of State-licensed pilots. The passage of Senate Bill (SB) 237 entitled “State Board of Docking Masters” by the General Assembly of Maryland, and the signing into law of the Bill, by the Governor of the State, have rendered a federal rule unnecessary.

DATES: On July 26, 2000, the Coast Guard terminates further rulemaking under docket number USCG 1999-6097.

FOR FURTHER INFORMATION CONTACT: LT Alan Blume, Project Manager, Waterways Management Division (G-MWP), (202) 267-0550.

SUPPLEMENTARY INFORMATION: Under 46 U.S.C. 8503(a), the Secretary of Transportation may require a federally-licensed pilot to be aboard a self-propelled vessel engaged in foreign trade and operating on the navigable waters of the United States when State law does not require a pilot. This requirement terminates under 46 U.S.C. 8503(b) when a State having jurisdiction establishes a superseding requirement for a State pilot and notifies the Secretary (in practice, the Coast Guard) of that fact. According to 46 CFR part 15, federal pilots must be aboard vessels engaged in foreign trade while operating on certain navigable waters within California, Hawaii, Massachusetts, and New York and New Jersey. The Coast Guard had determined that a similar rule was necessary for the waters of Maryland, particularly the Port of Baltimore. On October 21, 1999, it published the NPRM “Federal Pilotage for Foreign-Trade Vessels in Maryland” [64 FR 57620]. It also held a public meeting on March 1, 2000 [65 FR 6350] to gather comments. It purposely delayed action on this NPRM, allowing the State time to consider its own law on the issue of pilotage.

Commercial vessels transit the navigable waters of Maryland carrying various types of freight, oil, and hazardous substances and materials, as well as large quantities of bunkers. The previous law of Maryland [General Statutes of Maryland, § 11-501] required every foreign vessel and every domestic vessel sailing on register to use a State-licensed pilot, except when the vessel was under the control of a docking master while maneuvering during berthing or unberthing or was shifting within a port with tug assistance. The new Maryland law entitled “State Board of Docking Masters”, removes the exemption and requires that all movements of foreign vessels and domestic vessels sailing on register within waters of the State be under the direction of State-licensed pilots, accountable to the State.

Dated: July 19 2000.
Joseph J. Angelo,
Acting Assistant Commandant for Marine Safety and Environmental Protection.

[FR Doc. 00-18935 Filed 7-25-00; 8:45 am]

BILLING CODE 4910-15-P